DEPARTMENT OF THE INTERIOR

National Park Service

[NPS-WASO-NAGPRA-NPS0039799; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects and that have a cultural affiliation with the Indian Tribes or Native Hawaiian organizations in this notice.

DATES: Repatriation of the cultural items in this notice may occur on or after May 2, 2025.

ADDRESSES: Deanna Byrd, Peabody Museum of Archaeology and Ethnology, Harvard University, 11 Divinity Avenue, Cambridge, MA 02138, telephone (617) 384-0672, email deannabyrd@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 45 cultural items have been requested for repatriation. The 26 unassociated funerary objects from an “Indian Burial Place” in Longmeadow, Hampden County, MA, are two lots of ceramic sherds, one lot of stone gorget fragments, one lot of quartz and stone chips and fragments, 18 lots of finished and unfinished projectile points, three lots of stone tools, and one brass bullet. These 26 unassociated funerary objects were removed from the “Indian Burial Place” by Frederic Ward Putnam and B. Wilson Lord in 1882 and 1883 as part of PMAE Expeditions and donated to the PMAE in 1883.

The 18 unassociated funerary objects from the banks of the Connecticut River in Agawam, Hampden County, MA, are 17 unassociated funerary objects that are currently present at the PMAE and one unassociated funerary object that is currently missing. The 17 unassociated funerary objects that are currently present at the PMAE are two lots of projectile points, 11 lots of ceramic sherds, and four lots of quartz and stone implements. The one unassociated funerary object that is currently missing is one brass button. These 18 unassociated funerary objects were collected by B. Wilson Lord in 1884 and 1885 and donated to the PMAE by Lord in 1884 and 1885.

The one unassociated funerary object from a village site near Springfield, Hampden County, MA, is one lot of faunal remains. This unassociated funerary object was collected by Harry Andrew Wright in 1895 and donated by him to the PMAE the same year.

Determinations

The PMAE has determined that:

• The 45 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 2, 2025. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: March 21, 2025.
Melanie O'Brien,
Manager, National NAGPRA Program.

[FR Doc. 2025-05595 Filed 4-1-25; 8:45 am]

BILLING CODE 4312-52-P